FEDERAL MARITIME COMMISSION

46 CFR Parts 520 and 532

[Docket No. 10-03]

RIN 3072-AC38

Non-Vessel-Operating Common Carrier Negotiated Rate Arrangements; Correction

April 5, 2011.

AGENCY: Federal Maritime Commission.

ACTION: Final rule; correction.

SUMMARY: The Federal Maritime Commission is correcting a final rule that appeared in the Federal Register on March 2, 2011, exempting licensed non-vessel-operating common carriers that enter into negotiated rate arrangements from the tariff rate publication requirements of the Shipping Act of 1984. This correction clarifies that the negotiated rate arrangement must be agreed to prior to receipt of the cargo and removes the requirement that non-vessel-operating common carriers indicate their intention to move cargo under negotiated rate arrangements on their Form FMC-1 on file with the Commission.

DATES: Effective April 18, 2011.

FOR FURTHER INFORMATION CONTACT: Legal Information: Elisa Holland, 202-523-5740, generalcounsel@fmc.gov; Technical Information: George A. Quadrino, 202-523-5800; Gary G. Kardian, 202-523-5856, tradeanalysis@fmc.gov.

SUPPLEMENTARY INFORMATION: In FR Doc. 2011-4599 appearing in the Federal Register of Wednesday, March 2, 2011 (76 FR 11351), the following corrections are made:

§ 532.5 [Corrected]

1. On page 11361, in the first column, in § 532.5 Requirements for NVOCC negotiated rate arrangements, the word “contain” in paragraph (b) is capitalized and, paragraph (c) is corrected to read as follows:

“(c) Be agreed to by both NRA shipper and NVOCC, prior to receipt of cargo by the common carrier or its agent (including originating carriers in the case of through transportation);”

§ 532.6 [Corrected]

2. On page 11361, in the second column, in § 532.6 Notices, the paragraph designations are removed and the text of the section is correctly revised to read as follows:

“An NVOCC wishing to invoke an exemption pursuant to this part must indicate that intention to the Commission and to the public by a prominent notice in its rules tariff and bills of lading or equivalent shipping documents.”

By the Commission.
Karen V. Gregory,
Secretary.

[FR Doc. 2011-8467 Filed 4-7-11; 8:45 am]

BILLING CODE 6730-01-P